DEPARTMENT OF JUSTICE

Antitrust Division

Notice Pursuant to the National Cooperative Research and Production Act of 1993—Pistoia Alliance, Inc.

Notice is hereby given that, on August 19, 2016, pursuant to Section 6(a) of the National Cooperative Research and Production Act of 1993, 15 U.S.C. 4301 et seq. (“the Act”), Pistoia Alliance, Inc. has filed written notifications simultaneously with the Attorney General and the Federal Trade Commission disclosing changes in its membership. The notifications were filed for the purpose of extending the Act's provisions limiting the recovery of antitrust plaintiffs to actual damages under specified circumstances. Specifically, Agrimetrics Ltd., Harpenden, UNITED KINGDOM; Linguamatics Ltd., Cambridge, UNITED KINGDOM; Daniel Taylor (individual member), Washington, DC; and Repositive, Cambridge, UNITED KINGDOM, have been added as parties to this venture.

Also, EPAM Systems, Cambridge, MA; DeltaSoft, Hillsborough, NJ; IO-Informatics, Berkeley, CA; Syapse, Palo Alto, CA; Eagle Genomics Ltd., Cambridge, UNITED KINGDOM; Ipsen Biomeasure Incorporated, Acton, MA; Omixon, Nyul, HUNGARY; Semtific, San Diego, CA; Titian Software, Westborough, MA; Advanced Chemistry Development, Inc. (ACD/Labs), Toronto, CANADA; Schrodinger, LLC, New York, NY; GeneStack Limited, Cambridge, UNITED KINGDOM; Molecular Connections, Bangalore, INDIA; Connected Discovery Ltd., London, UNITED KINGDOM; Fulcrum Direct Ltd., Cardiff, UNITED KINGDOM; Intrepid Bioinformatics, Louisville, KY; Certara L.P. Portugal, Funchal, PORTUGAL; Mary Chitty (individual member), Needham, MA; BioIT, Edinburgh, UNITED KINGDOM; Cambridgene, Cambridge, UNITED KINGDOM; Jeeva Informatics Solutions, Derwood, MD; gritsystems A/S, Copenhagen, DENMARK; Genexyx srl, Trieste, ITALY; Savdion Ltd., Cambridge, UNITED KINGDOM; and FactBio, London, UNITED KINGDOM, have withdrawn as parties to this venture.

No other changes have been made in either the membership or planned activity of the group research project. Membership in this group research project remains open, and Pistoia Alliance, Inc. intends to file additional written notifications disclosing all changes in membership.

On May 28, 2009, Pistoia Alliance, Inc. filed its original notification pursuant to Section 6(a) of the Act. The Department of Justice published a notice in the Federal Register pursuant to Section 6(b) of the Act on July 15, 2009 (74 FR 34364).

The last notification was filed with the Department on May 31, 2016. A notice was published in the Federal Register pursuant to Section 6(b) of the Act on July 6, 2016 (81 FR 44048).

Patricia A. Brink,
Director of Civil Enforcement, Antitrust Division.

[FR Doc. 2016-22588 Filed 9-19-16; 8:45 am]

BILLING CODE P